DEPARTMENT OF THE INTERIOR

National Park Service

National Register of Historic Places; Notification of Pending Nominations and Related Actions

Nominations for the following properties being considered for listing or related actions in the National Register were received by the National Park Service before July 11, 2009.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by August 11, 2009.

J. Paul Loether,
Chief, National Register of Historic Places/National Historic Landmarks Program.

HAWAII

Hawaii County

Mauna Loa Road, Hawaii Volcanoes National Park, Hilo, 09000620

IOWA

Madison County

Seerley, William and Mary (Messersmith) Barn and Milkhouse—Smokehouse, 1840 137th La., Earlham, 09000621

MINNESOTA

McLeod County

Komensky School, 19981 Major Ave., Hutchinson, 09000622

Ramsey County

O'Donnell Shoe Company Building, 509 Sibley St., St. Paul, 09000623

MISSISSIPPI

Lee County

Carnation Milk Plant, 520 Carnation St., Tupelo, 09000624

Marion County

Columbia North Residential Historic District, Roughly bounded by High School and N. Main St. on the W. and Park Ave. and Branton Ave. on the E., Columbia, 09000625

MISSOURI

Pettis County

Sedalia Commercial Historic District (Boundary Increase I), 104-120 E. 5th St., Sedalia, 09000626

St. Louis Independent City

Stickney, William A., Cigar Company Building, 209 N. 4th St., St. Louis, 09000627

NEW YORK

Broome County

Wells, J. Stuart, House, 71 Main St., Binghamton, 09000628

Chautauqua County

Wellman Building, The, 101-103 W. 3rd St. & 215-217 Cherry St., Jamestown, 09000629

Erie County

Lafayette Avenue Presbyterian Church, 875 Elmwood Ave., Buffalo, 09000630

St. Francis Xavier Roman Catholic Parish Complex, 157 East St., Buffalo, 09000631

Kings County

Brooklyn Trust Company Building, 177 Montague St., Brooklyn, 09000632

Lewis County

Pine Grove Community Church, Austin Rd. & Pine Grove Rd., Pine Grove, 09000633

New York County

Emerson, The, 554 W. 53rd St., New York, 09000634

Oneida County

von Steuben, Baron, Memorial Site, Starr Hill Rd., Remsen, 09000635

NORTH CAROLINA

Mecklenburg County

Huntersville Colored High School, 302 Holbrooks Rd., Huntersville, 09000636

Orange County

Murphy School, 3729 Murphy School Rd., Hillsborough, 09000637

Transylvania County

East Main Street Historic District, (Transylvania County MPS) 249-683 and 768 East Main St.; 6-7 Rice St.; St. Phillip's Ln.; 1-60 Woodside Dr.; and 33 Deacon Ln., Brevard, 09000638

UTAH

Summit County

O'Mahony Dining Car No. 1107, 981 W. Weber Canyon Rd., Oakley, 09000639

VIRGINIA

Lunenburg County

Fort Mitchell Depot, 5570-5605 Fort Mitchell Dr., Fort Mitchell, 09000640

Newport News Independent City

Simon Reid Curtis House, 10 Elmhurst St., Newport News, 09000641

Shenandoah County

Bowman-Zirkle Farm, 12097 S. Middle Rd., Edinburg, 09000642

Clem-Kagey Farm, 291 Belgravia Rd., Edinburg, 09000643

Request REMOVAL has been made for the following resource:

OREGON

Coos County

Powers Hotel, 310 2nd St., Powers, 86001216

Request for MOVE has been made for the following resource

:

MARYLAND

Frederick County

Old National Pike Milestone No. 51, US 40 alternative: Beechtree Drive and Willow Tree Drive, Frederick, 75002107

[FR Doc. E9-17824 Filed 7-24-09; 8:45 am]

BILLING CODE P